ENVIRONMENTAL PROTECTION AGENCY

[EPA-HQ-OPP-2007-1019; FRL-8414-5]

Nicotine; Product Cancellation Order

AGENCY: Environmental Protection Agency (EPA).

ACTION: Notice.

SUMMARY: This notice announces EPA's order for the cancellation, voluntarily requested by the registrant and accepted by the Agency, of products containing the pesticide nicotine, pursuant to section 6(f)(1) of the Federal Insecticide, Fungicide, and Rodenticide Act (FIFRA), as amended. This cancellation order follows an October 29, 2008 Federal Register Notice of Receipt of Request from the nicotine registrant to voluntarily cancel its sole remaining nicotine product registration. This product registration is the last nicotine pesticide product registered for use in the United States. In the October 29, 2008 Notice, EPA indicated that it would issue an order implementing the cancellation, unless the Agency received substantive comments within the 180- day comment period that would merit its further review of these requests, or unless the registrant withdrew its request within this period. The Agency did not receive any comments on the notice. Further, the registrant did not withdraw its request. Accordingly, EPA hereby issues in this notice a cancellation order granting the requested cancellation. Any distribution, sale, or use of the nicotine product subject to this cancellation order is permitted only in accordance with the terms of this order, including any existing stocks provisions.

DATES: The cancellation is effective January 1, 2014.

FOR FURTHER INFORMATION CONTACT: Jill Bloom, Special Review and Reregistration Division, Office of Pesticide Programs, Environmental Protection Agency, 1200 Pennsylvania Ave., NW., Washington, DC 20460-0001; telephone number: (703) 308-8019; fax number: (703) 308-7070; e-mail address: bloom.jill@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007—1019. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellation, as requested by the registrant, of the sole remaining nicotine end-use product registered under section 3 of FIFRA. This registration is listed in Table 1 of this unit.

Table 1—Nicotine Product Cancellation
EPA Registration Number | Product Name
1327-41 | Fulex Nicotine Fumigator

Table 2 of this unit shows the name and address of record for the registrant of the registration listed in Table 1 of this unit.

Table 2—Registrant of Cancelled Nicotine Products
EPA Company Number | Company Name and Address
1327 | Fuller System, Inc. P.O. Box 3053, Woburn, MA 01888

III. Summary of Public Comments Received and Agency Response to Comments

During the public comment period, EPA received no comments in response to the October 29, 2008 Federal Register notice announcing the Agency's receipt of the request for voluntary cancellation of the nicotine product identified in Table 1 of Unit II.

IV. Cancellation Order

Pursuant to FIFRA section 6(f), EPA hereby approves the requested cancellation of the nicotine registration identified in Table 1 of Unit II. Accordingly, the Agency orders that the nicotine product registration identified in Table 1 of Unit II is hereby canceled, as of January 1, 2014, the effective date of this order. Any distribution, sale, or use of existing stocks of the products identified in Table 1 of Unit II in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The sale or distribution of existing stocks is permitted until December 31, 2014. All sale or distribution of existing stocks is prohibited after December 31, 2014, unless that sale or distribution is solely for the purpose of facilitating disposal or export of the product. The use of this product will be permitted until existing stocks are depleted. Any use of existing stocks must be in a manner consistent with the previously-approved labeling for this product.

List of Subjects

Environmental protection, Pesticides and pests.

Dated: May 19, 2009.
Richard P. Keigwin, Jr.
Director, Special Review and Reregistration Division, Office of Pesticide Programs.

[FR Doc. E9-12561 Filed 6-2-09; 8:45 a.m.]

BILLING CODE 6560-50-S